DEPARTMENT OF AGRICULTURE

Forest Service

Uinta-Wasatch-Cache National Forest, Evanston-Mountain View Ranger District; Utah; West Fork Smiths Fork Colorado River Cutthroat Trout Enhancement

AGENCY: Forest Service, USDA.

ACTION: Notice of intent to prepare an Environmental Impact Statement.

SUMMARY: The Evanston-Mountain View Ranger District of the Uinta-Wasatch-Cache National Forest (“Forest Service”), in cooperation with the Utah Division of Wildlife Resources (UDWR), proposes to treat the streams in the West Fork Smiths Fork drainage including some waters within the High Uintas Wilderness and High Uintas Inventoried Roadless Area with rotenone to remove non-native fish species and enhance habitat for native Colorado River cutthroat trout (CRCT; Onchorhynchus clarki pleuriticus).

Implementation of this proposal would require the use of a piscicide (a substance used to kill fish; i.e., rotenone) to remove competing and hybridizing non-native fish species from selected streams. Non-native fish species to be removed are primarily rainbow trout (Oncorhynchus mykiss) and hybridized Colorado River cutthroat trout, although all fish species would be removed from the project area. Following the last treatment of the selected streams, CRCT, sculpin (Cottus sp.), mountain sucker (Catostomus platyrhynchus), and speckled dace (Rhinichthys osculus) (all native to the drainage) would be restocked. Tiger trout (Salmo trutta x Salvelinus fontinalis) are a sterile hybrid that may be stocked in the project area to provide fishing opportunities while the CRCT population is expanding.

The waters proposed for treatments include selected streams that are the headwaters of the West Fork Smiths Fork drainage, on the north slope of the Uinta Mountains. Implementation would potentially begin during the summer or fall of 2018. Treatments of all identified target waters is expected to take place over the course of two to three years. Monitoring will occur after the treatments to ensure all fish are removed throughout the project area. Once the treatment is completed and CRCT, sculpin, mountain sucker, speckled dace and tiger trout are stocked back in the drainage, populations will be monitored every five to ten years to ensure the native populations are well established.

DATES: Comments concerning the scope of the analysis must be received by September 25, 2017. The Draft Environmental Impact Statement (DEIS) is expected January 2018 and the Final Environmental Impact Statement is expected July 2018. Those who wish to establish standing to object under 36 CFR part 218 subparts A and B should submit scoping comments no later than 30 days after publication of this notice of intent or during the comment period for the DEIS.

ADDRESSES: Written comments concerning the scope of the analysis, including any attachments, must be sent via regular mail, hand-delivered or express delivered to: Logan Ranger District, Attn: West Fork Smiths Fork CRCT Enhancement, 1500 E Highway 89, Logan, UT 84321. The office business hours for submitting hand-delivered comments are 8:00 a.m. to 4:30 p.m. Monday through Friday, excluding federal holidays. Electronic comments must be submitted in a format such as an email message or attached to an email in a format such as, .pdf, .txt, .rtf, .doc, or .docx to: comments-intermtn-wasatch-cache-evanston-mtnview@fs.fed.us. Comments may also be faxed to 435-755-3639. Public scoping meetings are not being considered at this time.

FOR FURTHER INFORMATION CONTACT: Paul Chase, Fisheries Biologist, at 435-755-3629 or pchase@fs.fed.us.

Individuals who use telecommunication devices for the deaf (TDD) may call the Federal Information Relay Service (FIRS) at 1-800-877-8339 between 8 a.m. and 8 p.m., Eastern Time, Monday through Friday.

SUPPLEMENTARY INFORMATION: This process is being conducted pursuant to the National Environmental Policy Act (NEPA), the Council on Environmental Quality Regulations for Implementing the NEPA (40 CFR parts 1500-1508), and Forest Service NEPA regulations. This project is subject to pre-decisional administrative review pursuant to 36 CFR part 218, subparts A and B. Also called the “objection process” the pre-decisional administrative review process replaced the appeal process in March 2013. Only persons or organizations who have previously submitted “specific written comments” regarding the proposed project during any designated opportunity for public comment are eligible to file an objection. Opportunity for public comment on a DEIS includes request for comments during scoping, the 40 CFR 1506.10 comment period, or other public involvement opportunity where written comments are requested by the responsible official (36 CFR 218.5). An objection period for the draft Record of Decision and Final Environmental Impact Statement will be provided, consistent with those subparts.

Purpose and Need for Action

The purpose of the project is to permit the UDWR, having jurisdiction by law, to manage, protect, maintain, enhance, rehabilitate, and extend the fish and wildlife populations of the State of Utah, to conduct activities in order to protect known populations of indigenous species (i.e., CRCT) that could become threatened or endangered where necessary for their perpetuation and to aid in their recovery in previously occupied habitat. The Forest Service purpose and need is centric to responding to UDWR's proposal to use piscicide in wilderness as necessary to conduct fish removal prior to restocking with CRCT.

The purpose of this project is to establish Colorado River cutthroat trout (CRCT) populations free of competing and hybridizing fish species (rainbow trout) in streams in the West Fork Smiths Fork drainage on the Evanston-Mountain View Ranger District of the Uinta-Wasatch-Cache National Forest. Removal of competing and hybridizing non-native fish is necessary to enhance habitat and restore genetically pure native CRCT populations to suitable habitats within the West Fork Smiths Fork drainage. Therefore, the primary objective is to remove rainbow and hybridized cutthroat trout that occur within these waters.

The upper reaches of the West Fork Smiths Fork drainage is within the High Uintas Wilderness and considered by state and Forest Service fisheries biologists to be critical and essential habitat in the watershed. Moreover, a wilderness is to be “protected and managed so as to preserve its natural conditions” meaning that wilderness ecological systems are substantially free from the effects of modern civilization. To preserve this quality, it is necessary to take action to correct unnatural conditions and address the scenic and conservation public purposes of wilderness, even if they were present at the time of wilderness designation. Any impacts resulting from the influence of modern civilization (such as the effects on indigenous CRCT from historic stocking of non-native rainbow trout) affect the natural quality of wilderness character.

In order to preserve the natural conditions within the wilderness and conserve the native CRCT and re-populate West Fork Smiths Fork with native CRCT the presence of the non-native hybridized CRCT and rainbow trout must be addressed in upper reaches of the West Fork Smiths Fork drainage. Limiting the project to the stream segments outside wilderness is not sufficient due to stream connectivity; the existing rainbow and hybridized CRCT within wilderness would continue downstream progression in the absence of a migration barrier.

This action is being considered at this time because these non-native fish species continue to threaten CRCT populations through competition and hybridization. This action is important to meet the objective identified in the CRCT Conservation Strategy to “secure or enhance CRCT populations” by removing non-native fish species. Once hybridization and repeated backcrossing of CRCT populations has begun, options for restoring a genetically pure stock are few. If mating between CRCT and rainbow trout or nonnative cutthroat continues for a number of generations and if hybrids do not show reduced fitness, then the genes of non-native stocks will pervade virtually all remaining individuals to produce a hybrid swarm within a particular area.

Removal of hybrids often fails for two reasons: First, whereas it is often possible to recognize first-generation hybrids between rainbow trout and cutthroat trout visually, backcrosses and later-generation individuals can be indistinguishable from genetically pure adults without the aid of genetic testing; second, if introgressive hybridization has progressed through several generations, nearly all individuals will carry at least some introduced genes, and reducing this influence to undetectable levels is probably futile.

Establishing populations of indigenous CRCT free from the threats from non-native trout would greatly benefit CRCT recovery efforts within the species historic range, which includes portions of Utah, Wyoming, and Colorado. The project would contribute to the conservation of the species and reduce the potential need for federal protection under the Endangered Species Act.

This action is tiered to the 2003 Revised Land and Resource Management Plan [for the] Uinta-Wasatch-Cache National Forest, as amended through the September 2015 Plan, and helps move the project area towards desired conditions described in that plan. The UDWR and Forest Service want to ensure the persistence of the CRCT within its historic range. This includes preserving genetic integrity and providing adequate populations to maintain intrinsic and recreational values. This proposed project would not require a Forest Plan amendment.

Proposed Action

The Forest Service proposes to permit the UDWR, being the agency responsible for the management of fish populations, to treat target waters with piscicide (rotenone) to remove competing and hybridizing non-native trout species within the proposed project area. Target streams are located within the West Fork Smiths Fork drainage including some areas within the High Uintas Wilderness. The waters proposed for treatments includes approximately 12 stream miles (approximately 4 miles outside of wilderness and 8 miles within wilderness) on the north slope of the Uinta Mountains. Implementation would potentially begin during the summer or fall of 2018. Treatments of all identified target waters is expected to take place over the course of 2 to 3 years.

The following is a summary of the proposed suite of activities for the West Fork Smiths Fork Colorado River Cutthroat Trout Enhancement project. The UDWR would take the lead in implementing the treatment project within target waters of the proposed project areas. The Forest Service would assist as the agency responsible for management of fish habitat.

Transporting Crew Members, Equipment, and Supplies. Crew members, equipment, and supplies will be brought into the High Uintas Wilderness by foot and pack stock using designated trails; mechanical transport will not be used. Implementation of the proposed treatment project would require small crews to camp near the target waters. Crew members would set up base camp(s) in the wilderness to stay overnight. The actual dispensing of rotenone, which would require the most man-power (approximately 8-10 people), would occur over a short one to two day period in the late summer or fall of each year. On those days, crew members would disperse along the stream corridors and would be spread out at approximately one-half mile intervals along streams targeted for piscicide application; crew members would return to camp after the application has concluded for the day. On the final day crew members, equipment, and supplies would be hiked out and/or removed with pack stock using designated trails.

The neutralization stage (one to two week period) which would occur outside the wilderness, would require that crew members set up a base camp at the Hewinta Guard Station.

Piscicide Application (“Treatment”) and Neutralization. The proposed project would be implemented during a two week period in July through September of each year. Rotenone liquid would be applied up to a concentration of 1.0 parts per million of product however the minimum concentration needed to remove target species would be used. All target waters to be treated that year would be treated with rotenone during a one to two-day period. Streams would be treated a minimum of two times. This would likely be completed in consecutive years but could be within the same year. If two treatments occur within the same year, a one to two months resting period would occur between treatments.

Liquid emulsifiable rotenone would be used to treat the flowing water sections following procedures outlined in the Rotenone Standard Operating Procedures Manual (SOP). Rotenone would be applied from drip stations located at approximately 0.5-1.0 mile intervals for a 6-hour period. Pressurized backpack sprayers would also be used to apply rotenone to springs and backwater areas; motorized transport would not be used during this process. A small amount of rotenone may be used to treat small side tributaries or standing water. Sentinel fish would be placed in live cages at strategic locations along the stream to monitor the effectiveness of the treatment.

Procedures outlined in the Rotenone SOP would be followed for neutralizing rotenone-treated waters. Potassium permanganate would be dispensed at or near the fish migration barrier at the downstream end of the project area (outside of the wilderness). Potassium permanganate would be dispensed to neutralize rotenone and prevent mortality of non-target organisms beyond target treatment areas.

Powdered potassium permanganate would be used as a neutralizing agent for the rotenone. The application rate of potassium permanganate would be determined after the pre-treatment factors of water temperature and hardness are measured. The neutralization zone for the project would be approximately the 30-minute travel distance downstream from the location potassium permanganate is dispensed into the stream. Neutralization of rotenone would take an estimated one to two weeks, dependent on temperature and other factors. Continuous use of the auger and gas powered generator would be necessary to effectively dispense potassium permanganate during this one to two week period (occurs outside of wilderness).

Fish Recovery. Dead fish would be washed downstream, consumed by scavenging wildlife or provide needed nutrients for repopulating aquatic macroinvertebrates; dead fish would not be collected.

Public Access and Area Closures. Public access into the High Uintas Wilderness would remain open to the public during the treatment, however closures (1-2 days) for public access to the target stream(s) during the treatment would occur. UDWR would post signs warning of the upcoming treatment prior to starting and actual closure signs would be posted along the trail(s) during the treatment. These temporary signs would be removed at the conclusion of each treatment. Public access would be allowed during the neutralization phase.

Fish Stocking. UDWR would be the entity responsible for reintroducing/stocking fish species; fish would be released throughout the drainage. Buckets required to carry fish for restocking would be transported by small crews using designated trails and disperse along the stream corridors. Trucks would transport fish to the project area; no aircraft or mechanical transport would be used in wilderness. Fish reintroduction/stocking would occur a few weeks after the last treatment (year two). Treated waters would be restocked with CRCT, sculpin, mountain sucker, speckled dace, and tiger trout. Tiger trout are a sterile hybrid that would be stocked in the project area to provide fishing opportunities while the CRCT population is expanding following the last treatment of the selected water. Once CRCT are well established, tiger trout will no longer be stocked and will disappear from the system over 4-5 years.

Monitoring. Monitoring will occur after both the first and second treatments to ensure all fish are removed throughout the proposed project area. Once the treatment is completed and CRCT, sculpin, mountain sucker, speckled dace and tiger trout are stocked back in the drainage, populations will be monitored every 5-10 years to ensure the native populations are well established.

Possible Alternatives

At this time, there are two alternatives that are being considered: Alternative 1 (No Action) and Alternative 2 (Proposed Action). Alternative 1 would not authorize the application of piscicide in the wilderness and associated suite of activities. Alternative 2 is described above. During the course of development of the Environmental Impact Statement it is possible that the public, Forest Service staff, or both will identify additional alternatives to be evaluated.

Lead and Cooperating Agencies

The Evanston-Mountain View Ranger District of the Uinta-Wasatch-Cache National Forest will be the lead agency preparing the Environmental Impact Statement. The Utah Division of Wildlife Resources will be a cooperating agency.

Responsible Official

Unless specified otherwise, the Regional Forester is responsible for approving all measures that implement Forest Service Manual direction on the use of other resources in wilderness. Specific responsibilities include approving the use of pesticides within wilderness.

The responsible official for this project is the Regional Forester for the Intermountain Region (R4).

Nature of Decision To Be Made

The decision to be made includes whether or not to approve the proposed suite of activities, in whole or in part, specifically: (1) Application of piscicide (“treatment”) within designated wilderness on National Forest System (NFS) land and neutralization outside of designated wilderness on NFS land; (2) seasonal and multi-year timing of the action; (3) method of transport for materials, equipment, and personnel to treatment areas; (4) closing public access to the stream during the treatment; (5) restocking with CRCT, sculpin, mountain sucker, speckled dace, and tiger trout; (6) monitoring following treatment and neutralization; and, (7) what mitigation measures will be implemented. Because the majority of streams occur within wilderness, methodologies and activities selected for implementation must conform to special land use restrictions as much as possible.

Preliminary Issues

Preliminary issues that have been identified include potential impacts to fisheries and aquatic resources, health and human safety, wilderness and other undeveloped lands, wildlife (terrestrial), soil and water resources, wilderness, and wildlife. Additional issues may arise based on comments received from the public during the scoping and comment processes.

Permits or Licenses Required

The Utah Division of Wildlife Resources would submit a Pesticide Use Proposal as well as a National Pollutant Discharge Elimination System to the Regional Forester for approval. These permits are required to allow application of the piscicide to targeted waters within wilderness.

Scoping Process

This notice of intent initiates the scoping process, which guides the development of the Environmental Impact Statement. In addition to and concurrent with publication of this notice of intent, a public scoping document was published to the project-specific information page on the Uinta-Wasatch-Cache National Forest Web site at: https://www.fs.usda.gov/project/?project=51924, and a postcard was sent to individuals, entities, and organizations informing them that the notice of intent and public scoping document had been published. Comments may be submitted in a variety of ways, specifically: Via regular mail, hand-delivered or express delivered, via fax, and via email. Comments sought include specific comments to the proposed action, appropriate information that could be pertinent to analysis of environmental consequences, identification of significant issues, and identification of potential alternatives.

It is important that reviewers provide their comments at such times and in such manner that they are useful to the agency's preparation of the Environmental Impact Statement. Therefore, comments should be provided prior to the close of the scoping period and should clearly articulate the reviewer's concerns and contentions.

Comments received in response to this solicitation, including names and addresses of those who comment, will be part of the public record for this proposed action. Comments submitted anonymously will be accepted and considered, however.

Dated: August 1, 2017.
Jeanne M. Higgins,
Acting Associate Deputy Chief, National Forest System.

[FR Doc. 2017-18016 Filed 8-24-17; 8:45 am]

BILLING CODE 3411-15-P